NATIONAL AERONAUTICS AND SPACE ADMINISTRATION

[Notice 03-164]

Notice of Prospective Patent License

AGENCY: National Aeronautics and Space Administration.

ACTION: Notice of prospective patent license.

SUMMARY: NASA hereby gives notice that JFC Technologies has applied for an exclusive license to practice the inventions described and claimed in U.S. Patent No. 6,359,107, entitled “Composition Of And Method For Making High Performance Resins For Infusion And Transfer Molding Processes”; which is assigned to the United States of America as represented by the Administrator of the National Aeronautics and Space Administration. Written objections to the prospective grant of a license should be sent to NASA Langley Research Center. NASA has not yet made a determination to grant the requested license and may deny the requested license even if no objections are submitted within the comment period.

DATES: Responses to this notice must be received by January 20, 2004.

FOR FURTHER INFORMATION CONTACT: Robin W. Edwards, Patent Attorney, Mail Stop 212, NASA Langley Research Center, Hampton, VA 23681-2199. Telephone (757) 864-3230; Fax (757) 864-9190.

Dated: December 29, 2003.
Robert M. Stephens,
Deputy General Counsel.

[FR Doc. 04-69 Filed 1-2-04; 8:45 am]

BILLING CODE 7510-01-P